DEPARTMENT OF COMMERCE

National Oceanic and Atmospheric Administration

RIN 0648-XC45

Endangered and Threatened Species; Take of Anadromous Fish

AGENCY: National Marine Fisheries Service (NMFS), National Oceanic and Atmospheric Administration (NOAA), Commerce.

ACTION: Notice of availability and request for comment.

SUMMARY: Notice is hereby given that NMFS has received an application from the Washington Department of Fish and Wildlife (WDFW) for an incidental take permit pursuant to the Endangered Species Act of 1973, as amended (ESA). The duration of the proposed Permit is 5- years. This document serves to notify the public of the availability for comment of the permit application and of the associated draft environmental assessment (EA) before a final decision on whether to issue a Finding of No Significant Impact and the permit is made by NMFS. All comments received will become part of the public record and will be available for review pursuant to section 10(c) of the ESA.

DATES: Written comments on the application and draft EA must be received at the appropriate address or fax number (see ADDRESSES) no later than 5 p.m. Pacific time on October 12, 2007.

ADDRESSES: Written comments on the application should be sent to Kristine Petersen, Salmon Recovery Division, 1201 NE., Lloyd Boulevard, Suite 1100, Portland, OR 97232. Comments may also be submitted by e-mail to: UCRFisheries.nwr@noaa.gov. Include in the subject line of the e-mail comment the following identifier: Comments on UCR recreational fisheries. Comments may also be sent via facsimile (fax) to (503) 872-2737. Requests for copies of the permit application should be directed to the Salmon Recovery Division, 1201 NE., Lloyd Boulevard, Suite 1100, Portland, OR 97232. The documents are also available on the Internet at http://www.nwr.noaa.gov. Comments received will also be available for public inspection, by appointment, during normal business hours by calling (503) 230-5409.

FOR FURTHER INFORMATION CONTACT: Kristine Petersen at (503) 230-5409 or e-mail: kristine.petersen@noaa.gov.

SUPPLEMENTARY INFORMATION: This notice is relevant to the following species and evolutionarily significant units (ESUs) or distinct population segments (DPSs):

Steelhead (Oncorhynchus mykiss): endangered, naturally produced and artificially propagated Upper Columbia River (UCR) and threatened Middle Columbia River.

Chinook salmon (O. tshawytscha): endangered Upper Columbia River spring-run and threatened Snake River fall-run.

Background

Section 9 of the ESA and Federal regulations prohibit the “taking” of a species listed as endangered or threatened. The term “take” is defined under the ESA to mean harass, harm, pursue, hunt, shoot, wound, kill, trap, capture, or collect, or to attempt to engage in any such conduct. NMFS may issue permits to non-Federal entities to take ESA-listed species if such taking is incidental to, and not the purpose of, carrying out an otherwise lawful activity, under section 10(a)(1)(B) of the ESA. NMFS regulations governing permits for threatened and endangered species are promulgated at 50 CFR 222.307.

The National Environmental Policy Act (NEPA) requires Federal agencies to conduct an environmental analysis of their proposed actions to determine if the actions may affect the human environment. NMFS expects to take action on an ESA section 10(a)(1)(B) submittal received from the applicant. Therefore, the Service is seeking public input on the scope of the required NEPA analysis, including the range of reasonable alternatives and associated impacts of any alternatives.

On September 12, 2005, the WDFW submitted an application to NMFS for an ESA section 10(a)(1)(B) permit for incidental take of ESA-listed anadromous fish species associated with recreational fishery programs in the upper Columbia River and its tributaries for a 5-year period. The receipt of the application was noticed in the Federal Register (70 FR 71087, November 11, 2005), and no comments were received. On February 2, 2007, the WDFW submitted a request to adjust the boundaries of one fishery previously proposed in the 2005 application. The application is being made available for comment a second time due to the addition of the fishery area adjustment. The proposed fisheries would target non-listed anadromous salmon and steelhead and resident game fish species. No fisheries that would target listed species are proposed in the application. Implementation of these fisheries would allow fishing for recreational purposes and would provide economic opportunities for local communities through the sale of licenses and equipment, and the conduct of other business and services related to recreational fisheries.

This notice is provided pursuant to section 10(c) of the ESA. NMFS will evaluate the application, associated documents, and comments submitted thereon to determine whether the application meets the requirements of section 10(a)(1)(A) of the ESA. If it is determined that the requirements are met, a permit will be issued to the WDFW for the purpose of carrying out the fisheries management activities. NMFS will publish a record of its final action in the Federal Register.

The general effects on the environment considered include the impacts on the physical, biological, and socioeconomic environments of the Upper Columbia River Basin.

Dated: September 7, 2007.
Angela Somma,
Chief, Endangered Species Division, Office of Protected Resources, National Marine Fisheries Service.

[FR Doc. E7-17985 Filed 9-11-07; 8:45 am]

BILLING CODE 3510-22-S